DEPARTMENT OF JUSTICE

Notice of Lodging of Partial Consent Decree Under the Comprehensive Environmental Response Compensation, and Liability Act

Notice is hereby given that on September 5, 2006, a proposed Consent Decree (“Decree”) in United States v. United Park City Mines Co, et al., Civil Action No. 2:06CV00745 PCG, was lodged with the United States District Court for the District of Utah.

The Decree resolves the United States' claims against United Park City Mines Company (“UPCM”) and the Atlantic Richfield Company (“ARCO”) under Section 107 of the Comprehensive Environmental Response, Compensation, and Liability Act (CERCLA), 42 U.S.C. 9607, for past response costs incurred at the Richardson Flat Tailings Site outside Park City, Utah. The Decree requires UPCM and ARCO to pay the United States $400,000.

The Department of Justice will receive for a period of thirty (30) days from the date of this publication comments relating to the Decree. Comments should be addressed to the Assistant Attorney General, Environmental and Natural Resources Division, P.O. Box 7611, U.S. Department of Justice, Washington, D.C. 20044-7611, and should refer to United States v. United Park City Mines Co., et al., D.J. Ref. 90-11-3-08764.

The Decree may be examined at the Office of the United States Attorney, 185 South State Street, Suite 400, Salt Lake City, Utah 84111, and at U.S. EPA Region 8, 999 Eighteenth Street, Suite 300, Denver, Colorado 80202. During the public comment period, the Decree may also be examined on the following Department of Justice Web site, http://www.usdoj.gov/enrd/Consent_Decrees.html. A copy of the Decree may also be obtained by mail from the Consent Decree Library, P.O. Box 7611, U.S. Department of Justice, Washington, D.C. 20044-7611 or by faxing or e-mailing a request to Tonia Fleetwood (tonia.fleetwood@usdoj.gov), fax no. (202) 514-0097, phone confirmation number (202) 514-1547. In requesting a copy from the Consent Decree Library, please enclose a check in the amount of $4.50 payable to the U.S. Treasury.

Robert D. Brook,
Assistant Chief, Environmental Enforcement Section, Environment and Natural Resources Division.

[FR Doc. 06-7617 Filed 9-2-06; 8:45 am]

BILLING CODE 4410-15-M